FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—10/12/2004
20041428 | GS Capital Partners 2000, L.P | CSA Acquisition Corp | CSA Acquisition Corp.
20041429 | Cypress Merchant Banking Partners II, L.P | CSA Acquisition Corp | CSA Acquisition Corp.
20041430 | Cypress Merchant Banking Partners II, L.P | Cooper Tire & Rubber Company | Cooper-Standard Automotive, Inc. and other subsidiaries.
20041437 | James N. Stanard | RenaissanceRe Holdings Ltd | RenaissanceRe Holdings Ltd.
20041439 | The PNC Financial Services Group, Inc | MetLife, Inc | SSRM Holdings, Inc.
20041472 | JLL Partners Fund IV, L.P | The Marco Group, Inc | The Marco Group, Inc.
20050008 | Dave & Buster's, Inc | J.W. Childs Equity Partners, L.P | Jillian's Entertainment Holdings, Inc.
Transactions Granted Early Termination—10/14/2004
20041411 | BAE Systems plc | DigitalNet Holdings, Inc | DigitalNet Holdings, Inc.
20041465 | CB Riley Investor LLC | MFA Limited Partnership | LNR Property Corporation.
Transactions Granted Early Termination—10/15/2004
20041433 | JLL Partners Fund IV, L.P | Long Point Capital Fund, L.P | CHI Holdings, Inc.
20041435 | U.S.I. Holdings Corporation | Summit Global Partners, Inc | Summit Global Partners, Inc.
20041444 | TRM Corporation | eFunds Corporation | eFunds Corporation.
20050007 | Broadlane, Inc | National Oncology, Alliance, Inc | National Oncology, Alliance, Inc.
Transactions Granted Early Termination—10/18/2004
20050015 | Westmoreland Coal Company | E.ON AG | Westmoreland—LG&E Partners.
20050023 | Triton PCS Holdings, Inc | SBC Communications, Inc | AT&T Wireless Services, Inc., Cingular Wireless LLC.
20050024 | SBC Communications, Inc | Triton PCS Holdings, Inc | Triton PCS Equipment Company, L.L.C., Triton PCS, Inc., Triton PCS License Company, L.L.C., Triton PCS Operating Company, L.L.C.
20050025 | Deseret Management Corporation | Emmis Communications Corporation | Emmis Radio License, LLC, Emmis Radio, LLC.
20050026 | Emmis Communications Corporation | Deseret Management Corporation | Bonneville Holding Company, Bonneville International Corporation.
20050027 | Abbott Laboratories | North Castle Partners II, L.P | Natural Supplement Association, Inc.
20050032 | Alliance Data Systems Corporation | Carlyle Partners III, L.P | The Relizon e-CRM Company.
20050035 | Fortstmann Little & Co. Equity Partnership VII, L.P | Imagine Parent Corp | Imagine Parent Corp.
20050036 | Sol Price | PriceSmart, Inc | PriceSmart, Inc.
20050037 | Alcatel | Spatial Communications Technologies, Inc | Spatial Communications Technologies, Inc.
Transactions Granted Early Termination—10/19/2004
20041457 | Fortress Investment Fund II, LLC | GreenPoint Financial Corp | c/o GreenPoint Financial Corp., GreenPoint Agency, Inc., GreenPoint Credit, LLC, GreenPoint Credit of Mississippi, LLC.
20050033 | Forstmann Little & Co. Equity Partners VII, L.P | Family Marital Trust c/o the Mark H. McCormick Trust | IMG Worldwide, Inc.
20050034 | Forstmann Little & Co. Subordinated Debt & Equity Management | Imagine Parent Corp | Imagine Parent Corp.
20050044 | Scandent Holdings Mauritius Limited | Aon Corporation | Cambridge Integrated Services Group, Inc.
Transactions Granted Early Termination—10/20/2004
20050045 | Williams Lea Group Limited | Browne & Co., Inc | Browne Business Solutions, Inc
20050054 | Stewart A. Resnick & Lynda Rae Resnick | David H. Gilmour | Fiji Water Holdings, LLC.
20050060 | Iron Mountain Incorporated | Connected Corporation | Connected Corporation.
Transactions Granted Early Termination—10/21/2004
20050021 | Herbst Gaming, Inc | Estate of William M. Grace | Mark Twain Casino, L.L.C., St. Joseph Riverboat Partners.
20050022 | Herbst Gaming, Inc | ALS Enterprise | Mark Twain Casino, L.L.C.
20050028 | United Technologies Corporation | Kidde plc | Kidde plc.
20050065 | Doughty Hanson & Co IV Limited | OCM Principal Opportunities Fund II, L.P | Tumi Holdings, Inc.
Transactions Granted Early Termination—10/22/2004
20050055 | Patni Computer Systems Limited | Cymbal Corporation | Cymbal Corporation.
20050056 | Apollo Investment Fund IV, L.P | Sirius Satellite Radio Inc | Sirius Satellite Radio Inc.
20050062 | Credit-Based Asset Servicing and Securitization LLC | National City Corporation | The Provident Bank.
20050063 | Roper Industries, Inc | TransCore Holdings, Inc | TransCore Holdings, Inc.
20050070 | TCV V, L.P | eHarmony.com, Inc | eHarmony.com, Inc.
20050078 | Carlyle Partners III, Hawaii, L.P | Verizon Communications, Inc | Verizon HoldCo, LLC.
20050083 | The Edward W. Scripps Trust | Glenn R. Jones | Great American Country, Inc.
Transactions Granted Early Termination—10/25/2004
20050072 | SBC Communications, Inc | Lawrence D. Canarelli | www.yellowpages.com. Inc.
Transactions Granted Early Termination—10/27/2004
20041445 | Delhaize Group | Victory Distributors, Inc | Victory Distributors, Inc.
20041454 | Hughes Supply, Inc | Southwest Power, Inc | Southwest Power, Inc.
20041455 | Hughes Supply, Inc | Western States Electric, Inc | Western States Electric, Inc.
20050012 | Harbert Distressed Investment Offshore Fund, Ltd | J.P. Morgan Chase & Co | Polaroid Holding Company.
20050013 | Harbert Distressed Investment Offshore Fund, Ltd | Leap Wireless International, Inc | Leap Wireless International, Inc.
20050019 | Integrated Alarm Services Group, Inc | Tyco International, Ltd | National Alarm Computer Center, Inc.
20050038 | Harbert Distressed Investment Offshore Fund, Ltd | NorthWestern Corporation | NorthWestern Corporation.
20050046 | Ares Corporate Opportunities Fund, L.P | KTIN Holdings, LLC | KTIN Holdings, LLC.
20050047 | Segal Projects, LLC | NRG Energy, Inc | LSP Equipment, LLC., LSP-Kendall Energy, LLC.
20050048 | ArcLight Energy Partners Fund II, L.P | Allegheny Energy, Inc | Monongohela Power Company, Mountaineer Gas Company.
20050067 | Ares Corporate Opportunities Fund, L.P | Samsonite Corporation | Samsonite Corporation.
20050068 | Harris Corporation | Encoda Systems Holdings, Inc | Encoda Systems Holdings, Inc.
20050074 | Macquarie Infrastructure Company Trust | Macquarie Global Infrastructure Fund A | Macquarie Airports North America Inc., Macquarie Americas Parking Corporation.
20050075 | TPG Partner IV, L.P | Enron Corp. (Debtor in Possession) | Portland General Electric Company.
20050076 | Macquarie Infrastructure Company Trust | Macquarie Global Infrastructure Fund B | Macquarie Airports North America Inc., Macquarie Americas Parking Corporation.
20050080 | Vulcan Materials Company | Vulcan Materials Company | Vulcan Chloralkali, LLC.
20050084 | AAFK Acquisition, Inc | K&F Industries, Inc | K&F Industries, Inc.
Transactions Granted Early Termination—10/29/2004
20041442 | Olympus Growth Fund IV, L.P | Three Cities Fund III, L.P | Meridian Rail Acquisition Corp.
20041459 | BAE Systems plc | Alphatech, Inc | Alphatech, Inc.
20050003 | Fidelity National Financial, Inc | InterCept, Inc | InterCept, Inc.
20050040 | GlaxoSmithKline plc | Human Genome Sciences, Inc | Human Genome Sciences, Inc.
20050064 | Wells Fargo & Company | Richard S. Strong | Strong Capital Management, Inc., Strong Financial Corporation, Strong Investments, Inc., Strong Investor Services, Inc., Strong Retirement Plan Services, Inc.
20050089 | Windsor Food Company, Ltd | Fremont Partners III, L.P | SBI Holdings, Inc.
20050091 | AB Holdings Inc | Kenneth R. Thomson | Thomson Media Inc.
20050093 | Pfizer, Inc | GOJO Industries, Inc | GOJO Indusries, Inc.

FOR FURTHER INFORMATION CONTACT: Sandra M. Peay, Contact Representative, or Renee Hallman, Case Management Assistant, Federal Trade Commission, Premerger Notification Office, Bureau of Competition, Room H-303, Washington, DC 20580, (202) 326-3100.

By direction of the Commission.
Donald S. Clark,
Secretary.

[FR Doc. 04-25934 Filed 11-22-04; 8:45 am]

BILLING CODE 6750-01-M